Title 3—

The President

Proclamation 8264 of May 30, 2008

Black Music Month, 2008

By the President of the United States of America

A Proclamation

America's diverse musical heritage exemplifies the creativity and optimism of our Nation. During Black Music Month, we celebrate the extraordinary talents and creativity of African-American singers, musicians, and composers whose achievements have enriched our culture and enhanced our lives.

For generations, African-American artists have created music that communicates across racial boundaries and expresses both joy and sorrow. When facing the cruelty of slavery and injustice, African Americans lifted spirituals to the heavens, bringing comfort to troubled souls. These timeless declarations of hope and faith evolved into the more modern genres of gospel, blues, ragtime, and jazz, and they are given voice in the musical genius of Scott Joplin, Marian Anderson, Eubie Blake, and Mahalia Jackson. During the Civil Rights era, African-American musicians such as Duke Ellington, Muddy Waters, and Ruth Brown conveyed the struggles of their communities while bringing people of all backgrounds together. Today, this music continues to inspire America's citizens and advance its creative spirit.

Throughout the course of American history, black musicians have used their great talents to share the richness of the African-American experience and to develop a uniquely American style of music enjoyed throughout the world. This month, we honor the pioneers of African-American music and today's contemporary artists who have enriched the lives of people everywhere.

NOW, THEREFORE, I, GEORGE W. BUSH, President of the United States of America, by virtue of the authority vested in me by the Constitution and laws of the United States, do hereby proclaim June 2008 as Black Music Month. I encourage all Americans to learn more about the history of black music and to enjoy the great contributions of African-American singers, musicians, and composers.

IN WITNESS WHEREOF, I have hereunto set my hand this thirtieth day of May, in the year of our Lord two thousand eight, and of the Independence of the United States of America the two hundred and thirty-second.

[FR Doc. 08-1322

Filed 6-3-08; 8:59 am]

Billing code 3195-01-P